NUCLEAR REGULATORY COMMISSION

[NRC-2020-0159]

Design Limits, Loading Combinations, Materials, Construction and Testing of Concrete Containments

AGENCY: Nuclear Regulatory Commission.

ACTION: Draft regulatory guide; request for comment.

SUMMARY: The U.S. Nuclear Regulatory Commission (NRC) is issuing for public comment draft regulatory guide (DG), DG-1372, “Design Limits, Loading Combinations, Materials, Construction and Testing of Concrete Containments.” This draft guide is proposed Revision 4 of regulatory guide (RG) 1.136 of the same name. It updates the guidance for materials, design, construction, fabrication, examination, and testing of concrete containments in nuclear power plants through endorsement, with exceptions, of the 2019 edition of the American Society of Mechanical Engineers Boiler & Pressure Vessel Code, Section III, Division 2 (American Concrete Institute Standard 359-19), “Code for Concrete Containments.”

DATES: Submit comments by September 8, 2020. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods

• Federal Rulemaking website: Go to https://www.regulations.gov and search for Docket ID NRC-2020-0159. Address questions about NRC docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: George Thomas, Office of Nuclear Reactor Regulation, telephone: 301-415-6181, email: George.Thomas@nrc.gov; and Edward O'Donnell, Office of Nuclear Regulatory Research, telephone: 301-415-3317, email: Edward.ODonnell@nrc.gov. Both are staff of the U.S. Nuclear Regulatory Commission, Washington, DC 20555-0001.

SUPPLEMENTARY INFORMATION:

I. Obtaining Information and Submitting Comments

A. Obtaining Information

Please refer to Docket ID NRC-2020-0159 when contacting the NRC about the availability of information regarding this action. You may obtain publicly-available information related to this action, by any of the following methods:

• Federal Rulemaking website: Go to https://www.regulations.gov and search for Docket ID NRC-2020-0159.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. DG-1372 is available in ADAMS under Accession No. ML20105A215 and the regulatory analysis for DG-1372 is available in ADAMS under Accession No. ML20105A216.

B. Submitting Comments

Please include Docket ID NRC-2020-0159 in your comment submission. The NRC cautions you not to include identifying or contact information that you do not want to be publicly disclosed in your comment submission. The NRC posts all comment submissions at https://www.regulations.gov as well as enters the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Additional Information

The NRC is issuing for public comment a draft guide in the NRC's “Regulatory Guide” series. This series was developed to describe methods that are acceptable to the NRC staff for implementing specific parts of the agency's regulations, to explain techniques that the staff uses in evaluating specific issues or postulated events, and to describe information that the staff needs in its review of applications for permits and licenses.

The DG, titled “Design Limits, Loading Combinations, Materials, Construction and Testing of Concrete Containments,” is a proposed revision temporarily identified by its task number, DG-1372. It is proposed revision 4 of RG 1.136 of the same name. The guide proposes revised guidance to meet regulatory requirements for materials, design, construction, fabrication, examination, and testing of concrete containments in nuclear power plants.

This revision of the guide endorses, with exceptions, the 2019 edition of the American Society of Mechanical Engineers (ASME) Boiler & Pressure Vessel Code (B&PV), Section III, Division 2 (American Concrete Institute Standard 359-19), “Code for Concrete Containments.” This revision of the guide also addresses the acceptability of the Section III Code Cases related to Division 2 of the ASME B&PV Code, Section III.

The staff is also issuing for public comment a draft regulatory analysis (ADAMS Accession No. ML20105A216). The staff developed a draft regulatory analysis to assess the value of issuing or revising a regulatory guide as well as alternative courses of action.

III. Backfitting, Forward Fitting, and Issue Finality

This regulatory guide provides guidance for materials, design, construction, fabrication, examination, and testing of concrete containments in nuclear power plants through endorsement, with exceptions, of the 2019 edition of the American Society of Mechanical Engineers Boiler & Pressure Vessel Code, Section III, Division 2 (American Concrete Institute Standard 359 19), “Code for Concrete Containments.” The issuance of this regulatory guide does not constitute backfitting as defined in section 50.109 of title 10 of the Code of Federal Regulations (CFR), “Backfitting,” and as described in NRC Management Directive 8.4, “Management of Backfitting, Forward Fitting, Issue Finality, and Information Requests,” or affect issue finality of any approval issued under 10 CFR part 52, “Licenses, Certificates, and Approvals for Nuclear Power Plants,” because, as explained in this regulatory guide, licensees are not required to comply with the positions set forth in this regulatory guide.

Dated: July 1, 2020.
For the Nuclear Regulatory Commission.
Meraj Rahimi,
Chief, Regulatory Guidance and Generic Issues Branch, Division of Engineering, Office of Nuclear Regulatory Research.

[FR Doc. 2020-14645 Filed 7-7-20; 8:45 am]

BILLING CODE 7590-01-P